FEDERAL ELECTION COMMISSION

11 CFR Parts 1, 2, 4, 5, 100, 101, 102, 104, 110, 113, 114, 201, and 300

[Notice 2009-32]

Privacy Act, Government in the Sunshine Act, Freedom of Information Act (“FOIA”), and Federal Election Campaign Act (“FECA”) Rules; Corrections

AGENCY: Federal Election Commission.

ACTION: Correcting amendments.

SUMMARY: The Commission is making technical amendments to various sections of the Privacy Act, Government in the Sunshine Act, FOIA, and FECA rules.

DATES: Effective January 4, 2010.

FOR FURTHER INFORMATION CONTACT: Ms. Amy L. Rothstein, Assistant General Counsel, or Mr. Eugene Lynch, Paralegal, 999 E Street, NW., Washington, DC 20463, (202) 694-1650 or (800) 424-9530.

SUPPLEMENTARY INFORMATION:

Background

The final rules that are the subject of these corrections were published as part of a continuing series of regulations the Commission promulgated implementing the Privacy Act of 1974, Public Law 93-579, 88 Stat. 1896 (1974), the Government in the Sunshine Act of 1976, Public Law 94-409, 90 Stat. 1241 (1976), the Freedom of Information Act of 1966, as amended, 5 U.S.C. 552, and the Federal Election Campaign Act (“FECA”) of 1971, as amended, 2 U.S.C. 431, et seq. Because these corrections are merely technical, this is not a substantive rule requiring notice and comment under the Administrative Procedure Act, 5 U.S.C. 553. Under the “good cause” exception to the notice and comment requirements, 5 U.S.C. 553(b)(B) and (d)(3), these corrections are effective upon publication. Thus, the corrected final rules are effective January 4, 2010.

Corrections to Privacy Act Rules in Part 1 of Title 11 of the Code of Federal Regulations

A. Correction to 11 CFR 1.2

The Commission is removing the definition of “Commissioners” and replacing it with a definition of “Commissioner,” to read as follows: “Commissioner means an individual appointed to the Federal Election Commission pursuant to 2 U.S.C. 437c(a).” The purpose of this change is to make the definition of “Commissioner” consistent in Commission regulations. The Commission is also placing the definitions in alphabetical order to assist the reader in locating a specific definition.

B. Correction to 11 CFR 1.3

The Commission is correcting an obsolete reference in paragraph (b) of this section to conform it to updated internal agency procedures by replacing the term “Staff Director” with the term “Chief Privacy Officer.”

C. Correction to 11 CFR 1.14

The Commission is correcting a typographical error in paragraph (a) of this section by replacing the semicolon after the phrase “2 U.S.C. 438(b)” with a comma.

Corrections to Government in the Sunshine Act Rules in Part 2 of Title 11 of the Code of Federal Regulations

A. Correction to 11 CFR 2.4

The Commission is correcting erroneous punctuation in paragraph (b)(1) of this section by replacing the period after the last word of the paragraph, “practices,” with a semicolon.

B. Correction to 11 CFR 2.6

The Commission is correcting erroneous punctuation in paragraph (c) of this section by inserting a comma after the last instance of the word “meeting.”

Corrections to Freedom of Information Act Rules in Part 4 of Title 11 of the Code of Federal Regulations

A. Corrections to 11 CFR 4.5

The Commission is correcting a typographical error in paragraph (a)(4) of this section by removing the letter “s” in the word “works” in the second sentence, so that the resulting word is “work.” In addition, the Commission is correcting missing words and capitalization in paragraphs (a)(4)(i), (iii), and (iv) of this section by inserting the word “Chief” in front of the word “FOIA” in all instances where “FOIA” appears. Also, in paragraphs (a)(4)(i) and (iii) of this section, the Commission is capitalizing the first letter of the word “officer,” so that it reads “Officer.” In addition, the Commission is correcting a typographical error in paragraph (b) of this section by replacing the colon after “11 CFR 4.5(a)(7)” with a comma. Finally, the Commission is correcting a typographical error in paragraph (b)(2)(i) of this section by replacing the comma after the word “pendency” with a semicolon.

B. Corrections to 11 CFR 4.7

The Commission is correcting a missing word and a typographical error in paragraph (b)(1) of this section by replacing the term “FOIA officer” with “Chief FOIA Officer.”

C. Correction to 11 CFR 4.7, 4.8, and 5.5

The Commission is inserting the word “Chief” directly before all instances of the term “FOIA Officer” in paragraph (i) of section 4.7, paragraph (c) of section 4.8, and paragraph (c) of section 5.5.

D. Correction to 11 CFR 4.9

The Commission is correcting a typographical error in paragraph (c)(1)(iv) of this section, by changing the second sentence of the paragraph to read as follows: “Requests from persons for records about themselves will continue to be treated under the fee provisions of the Privacy Act of 1974, which permit fees only for duplication.”

Corrections to FECA Rules in Subchapters A and C in Title 11 of the Code of Federal Regulations

A. Correction to 11 CFR 100.89

The Commission is correcting an incorrect citation in paragraph (f) of this section by replacing the reference to 11 CFR 100.78(d) at the end of the section with “paragraph (d) of this section.”

B. Corrections to 11 CFR 101.3

The Commission is correcting two incorrect citations in this section by replacing the references to 11 CFR 100.7(b)(1) and 100.8(b)(1) with 11 CFR 100.72 and 100.131, respectively.

C. Correction to 11 CFR 102.15

The Commission is correcting the heading to this section by replacing the reference to 2 U.S.C. 432(a)(3) with 2 U.S.C. 432(b)(3).

D. Corrections to 11 CFR 104.3

The Commission is correcting incorrect citations in paragraphs (a)(3)(vii)(B), (b)(2)(iii)(A), (b)(4)(iii), (d), and (d)(4) of this section by replacing all references to 11 CFR 100.7(b)(22) with 11 CFR 100.83, and by replacing all references to 100.8(b)(24) with 100.143.

E. Corrections to 11 CFR 104.8

The Commission is correcting two incorrect citations in paragraph (g) this section, by replacing the references to 11 CFR 100.7(b)(22) and 100.8(b)(24) with 11 CFR 100.83 and 100.143, respectively. The Commission is also correcting an incorrect citation in paragraph (g)(2) by replacing the reference to 11 CFR 100.7(b)(22)(iii) with 11 CFR 100.83(c).

F. Correction to 11 CFR 110.1

The Commission is correcting an incorrect citation in paragraph (a) of this section by changing the reference to 11 CFR 110.10 to 11 CFR 100.10.

G. Correction to 11 CFR 110.14

The Commission is correcting an inadvertent duplication of language in paragraph (f)(2)(i) of this section, governing expenditures by delegates for public political advertising that refers to candidates for public office. The duplicated language is from paragraph (f)(2)(ii) of this section, which concerns expenditures by delegates for communications that are not coordinated with candidates. As revised, paragraph (f)(2)(i) provides that delegate communications are in-kind contributions to a Federal candidate if they are coordinated communications under 11 CFR 109.21. This change is necessary to bring the rules governing delegates into alignment with the rules governing delegate committees in 11 CFR 110.14(i)(2) and coordinated communications in 11 CFR 109.21.

H. Correction to 11 CFR 110.17

The Commission is correcting an incorrect citation in paragraph (a) of this section by replacing the reference to 11 CFR 110.7 with 11 CFR 109.32. Thus, the relevant part of the sentence will read “* * * expenditures established by 11 CFR 109.32 and 110.8 shall be increased * * *”

I. Correction to 11 CFR 113.1

The Commission is correcting the first sentence of paragraph (g)(8) of this section by deleting the word “proposed” directly before the word “paragraphs.”

J. Corrections to 11 CFR 114.10

The Commission is removing the Editorial Note at the end of this section, on page 234 of the 2009 Code of Federal Regulations, in its entirety. In addition, the Commission is correcting a citation in paragraph (e)(2)(ii) of this section by replacing the reference to 11 CFR 104.14 with 11 CFR 104.20(b).

K. Corrections to 11 CFR 201.2

The Commission is changing the definition of “Commissioner” in paragraph (c) of this section to read as follows: “Commissioner means an individual appointed to the Federal Election Commission pursuant to 2 U.S.C. 437c(a).” The purpose of this change is to make the definition of “Commissioner” consistent in Commission regulations.

L. Correction to 11 CFR 300.31

The Commission is correcting a typographical error in paragraph (g) of this section by replacing the phrase “State, district, or local committee or a political party” with “State, district, or local committee of a political party.”

M. Correction to the Heading of 11 CFR 300.63

The Commission is correcting the heading to this section by removing the word “party.”

Corrections to Various Rules Throughout Title 11, Chapter 1 of the Code of Federal Regulations

A. Corrections to the Authority Citations for 11 CFR Parts 2, 101, 102, 113, 114, 201, and 300

The Commission is correcting the authority citations located in each of these parts. For part 2, the Commission is removing the redundant reference to the public law from the authority citation. For parts 101, 102, 113, 114, 201, and 300, the Commission is adding the word “and” before the last statutory reference in the authority citations to conform them to other authority citations in 11 CFR, and to make clear that there are no additional statutory references.

List of Subjects

11 CFR Part 1

Privacy.

11 CFR Part 2

Sunshine Act.

11 CFR Part 4

Freedom of information.

11 CFR Part 5

Archives and records.

11 CFR Part 100

Elections.

11 CFR Part 101

Political candidates, Reporting and recordkeeping requirements.

11 CFR Part 102

Political committees and parties, Reporting and recordkeeping requirements.

11 CFR Part 104

Campaign funds, Political committees and parties, Reporting and recordkeeping requirements.

11 CFR Part 110

Campaign funds, Political committees and parties.

11 CFR Part 113

Campaign funds.

11 CFR Part 114

Business and industry, Elections, Labor.

11 CFR Part 201

Administrative practice and procedure.

11 CFR Part 300

Campaign funds, Nonprofit organizations, Political committees and parties, Political candidates, Reporting and recordkeeping requirements.

For the reasons set out in the preamble, 11 CFR parts 1, 2, 4, and 5, and subchapters A and C of chapter 1 of title 11 of the Code of Federal Regulations, are amended as follows:

PART 1—PRIVACY ACT

1. The authority citation for part 1 continues to read as follows:

Authority: 5 U.S.C. 552a.

2. In § 1.2, arrange the existing definitions in alphabetical order, remove the definition of “Commissioners,” and add a definition of “Commissioner” to read as follows:

§ 1.2 Definitions.

* * * * *

Commissioner means an individual appointed to the Federal Election Commission pursuant to 2 U.S.C. 437c(a).

* * * * *

§ 1.3 [Amended]

3. In paragraph (b) of § 1.3, remove the words “Staff Director” and add, in their place, the words “Chief Privacy Officer”.

§ 1.14 [Amended]

4. In paragraph (a) of § 1.14, remove the semicolon after “2 U.S.C. 438(b)” and add, in its place, a comma.

PART 2—SUNSHINE REGULATIONS; MEETINGS

5. The authority citation for part 2 is revised to read as follows:

Authority: 5 U.S.C. 552b.

§ 2.4 [Amended]

6. In paragraph (b)(1) introductory text of § 2.4, remove the period after the word “practices” and add, in its place, a semicolon.

§ 2.6 [Amended]

7. In paragraph (c) of § 2.6, add a comma after the last occurrence of the word “meeting.”

PART 4—PUBLIC RECORDS AND THE FREEDOM OF INFORMATION ACT

8. The authority citation for part 4 continues to read as follows:

Authority: 5 U.S.C. 552, as amended.

§ 4.5 [Amended]

9. Amend § 4.5 as follows:

a. In the introductory text of paragraph (a)(4), remove the letter “s” from the word “works” in the second sentence.

b. In paragraphs (a)(4)(i) and (iii), remove the words “FOIA officer” and add, in their place, the words “Chief FOIA Officer.”

c. In paragraph (a)(4)(iv), remove the words “FOIA Officer” in both places where they occur and add, in their place, the words “Chief FOIA Officer.”

d. In the introductory text of paragraph (b), remove the colon after “11 CFR 4.5(a)(7)” and add, in its place, a semicolon.

e. In paragraph (b)(2)(i), remove the comma after the word “pendency” and add, in its place, a semicolon.

§ 4.7 [Amended]

10. In paragraph (b)(1) of § 4.7, remove the words “FOIA officer” and add, in their place, the words “Chief FOIA Officer”.

§ 4.8 [Amended]

11. In paragraph (c) of § 4.8, remove the words “FOIA Officer” and add, in their place, the words “Chief FOIA Officer”.

12. In paragraph (c)(1)(iv) of § 4.9, the second sentence is revised to read as follows:

§ 4.9 Fees.

* * * * *

(c) * * *

(1) * * *

(iv) * * * Requests from persons for records about themselves will continue to be treated under the fee provisions of the Privacy Act of 1974, which permit fees only for duplication. * * *

* * * * *

PART 5—ACCESS TO PUBLIC DISCLOSURE DIVISION DOCUMENTS

13. The authority citation for part 5 continues to read as follows:

Authority: 2 U.S.C. 437f(d), 437g(a)(4)(B)(ii), 438(a), and 31 U.S.C. 9701.

§ 5.5 [Amended]

14. In paragraph (c) of § 5.5, remove the words “FOIA officer” and add, in their place, the words “Chief FOIA Officer”.

PART 100—SCOPE AND DEFINITIONS (2 U.S.C. 431)

15. The authority citation for part 100 continues to read as follows:

Authority: 2 U.S.C. 431, 434, 438(a)(8), and 439a(c).

§ 100.89 [Amended]

16. In paragraph (f) of § 100.89, remove “100.78(d)” and add, in its place, the words “paragraph (d) of this section”.

PART 101—CANDIDATE STATUS AND DESIGNATIONS (2 U.S.C. 432(e))

17. The authority citation for part 101 is revised to read as follows:

Authority: 2 U.S.C. 432(e), 434(a)(11), and 438(a)(8).

§ 101.3 [Amended]

18. In the table below, for the section indicated in the left column, remove the citation indicated in the middle column, and replace it with the citation indicated in the right column:

Section | Remove | Add
101.3 | 100.7(b)(1) | 100.72
101.3 | 100.8(b)(1) | 100.131

PART 102—REGISTRATION, ORGANIZATION, AND RECORDKEEPING BY POLITICAL COMMITTEES (2 U.S.C. 433)

19. The authority citation for part 102 is revised to read as follows:

Authority: 2 U.S.C. 432, 433, 434(a)(11), 438(a)(8), and 441(d).

20. The heading of § 102.15 is revised to read as follows:

§ 102.15 Commingled funds (2 U.S.C. 432(b)(3)).

* * * * *

PART 104—REPORTS BY POLITICAL COMMITTEES AND OTHER PERSONS (2 U.S.C. 434)

21. The authority citation for part 104 continues to read as follows:

Authority: 2 U.S.C. 431(1), 431(8), 431(9), 432(i), 434, 438(a)(8) and (b), 439a, 441a, and 36 U.S.C. 510.

§§ 104.3 and 104.8 [Amended]

22. In the table below, for the section indicated in the left column, remove the citation indicated in the middle column, and replace it with the citation indicated in the right column:

Section | Remove | Add
104.3(a)(3)(vii)(B) | 100.7(b)(22) | 100.83
104.3(a)(3)(vii)(B) | 100.8(b)(24) | 100.143
104.3(b)(2)(iii)(A) | 100.7(b)(22) | 100.83
104.3(b)(2)(iii)(A) | 100.8(b)(24) | 100.143
104.3(b)(4)(iii) | 100.7(b)(22) | 100.83
104.3(b)(4)(iii) | 100.8(b)(24) | 100.143
104.3(d) | 100.7(b)(22) | 100.83
104.3(d)(4) | 100.7(b)(22) | 100.83
104.3(d)(4) | 100.8(b)(24) | 100.143
104.8(g) | 100.7(b)(22) | 100.83
104.8(g) | 100.8(b)(24) | 100.143
104.8(g)(2) | 100.7(b)(22)(iii) | 100.83(c)

PART 110—CONTRIBUTION AND EXPENDITURE LIMITATIONS AND PROHIBITIONS

23. The authority citation for part 110 continues to read as follows:

Authority: 2 U.S.C. 431(8), 431(9), 432(c)(2), 437d, 438(a)(8), 441a, 441b, 441d, 441e, 441f, 441g, 441h, and 36 U.S.C. 510.

§ 110.1 [Amended]

24. In paragraph (a) of § 110.1, remove “110.10” and add, in its place, “100.1”.

25. Paragraph (f)(2)(i) introductory text of § 110.14 is revised to read as follows:

§ 110.14 Contributions to and expenditures by delegates and delegate committees.

* * * * *

(f) * * *

(2) * * *

(i) Such expenditures are in-kind contributions to a Federal candidate if they are coordinated communications under 11 CFR 109.21.

* * * * *

26. In paragraph (a) introductory text of § 110.17, remove “110.7” and add, in its place, “109.32”.

PART 113—PERMITTED AND PROHIBITED USES OF CAMPAIGN ACCOUNTS

27. The authority citation for part 113 is revised to read as follows:

Authority: 2 U.S.C. 432(h), 438(a)(8), 439a, and 441a.

28. In paragraph (g)(8) of § 113.1, the first sentence is revised to read as follows:

§ 113.1 Definitions (2 U.S.C. 439a).

* * * * *

(g) * * *

(8) Recordkeeping. For those uses of campaign funds described in paragraphs (g)(1)(i) and (g)(1)(ii) of this section that involve both personal use and either campaign or office-holder use, a contemporaneous log or other record must be kept to document the dates and expenses related to the personal use of the campaign funds. * * *

PART 114—CORPORATE AND LABOR ORGANIZATION ACTIVITY

29. The authority citation for part 114 is revised to read as follows:

Authority: 2 U.S.C. 431(8), 431(9), 432, 434, 437d(a)(8), 438(a)(8), and 441b.

§ 114.10 [Amended]

30. In paragraph (e)(2)(ii) of § 114.10, remove “104.14” and add, in its place, “104.20(b)”.

PART 201—EX PARTE COMMUNICATIONS

31. The authority citation for part 201 is revised read as follows:

Authority: 2 U.S.C. 437d(a)(8), 437f, 438(a)(8), and 438(b); 26 U.S.C. 9007, 9008, 9009(b), 9038, and 9039(b).

32. Paragraph (c) of § 201.2 is revised to read as follows:

§ 201.2 Definitions.

* * * * *

(c) Commissioner means an individual appointed to the Federal Election Commission pursuant to 2 U.S.C. 437c(a).

* * * * *

PART 300—NON-FEDERAL FUNDS

33. The authority citation for part 300 is revised read as follows:

Authority: 2 U.S.C. 434(e), 438(a)(8), 441a(a), 441i, and 453.

34. Paragraph (g) of § 300.31 is revised to read as follows:

§ 300.31 Receipt of Levin Funds.

* * * * *

(g) Safe Harbor. The use of a common vendor for fundraising by more than one State, district, or local committee of a political party, or the agent of such a committee, does not constitute joint fundraising within the meaning of this section.

35. The heading of § 300.63 is revised to read as follows:

§ 300.63 Exception for State candidates (2 U.S.C. 441i(e)(2)).

* * * * *

On behalf of the Commission.
Steven T. Walther,
Chairman, Federal Election Commission.

[FR Doc. E9-30797 Filed 12-31-09; 8:45 am]

BILLING CODE 6715-01-P